FEDERAL TRADE COMMISSION

[Docket No. 9351]

McWane, Inc., et al. Oral Argument Before the Commission

AGENCY: Federal Trade Commission.

ACTION: Oral argument; open meeting.

SUMMARY: The Federal Trade Commission (“FTC” or “Commission”) will meet on Thursday, August 22, 2013 in Room 532 of the FTC Building for an Oral Argument in the matter of McWane, Inc., et al. The public is invited to attend and observe the open portion of the meeting, which is scheduled to begin at 2:00 p.m. The remainder of the meeting will be closed to the public.

DATES: Oral argument is scheduled for August 22, 2013 at 2:00 p.m.

ADDRESSES: Federal Trade Commission Building, 600 Pennsylvania Avenue NW., Washington, DC 20580.

FOR FURTHER INFORMATION CONTACT: Donald S. Clark, Secretary, the Office of the Secretary, 600 Pennsylvania Ave. NW., Washington, DC 20580, 202-326-2515.

SUPPLEMENTARY INFORMATION:

Open Meeting

(1) Oral Argument in the Matter of McWane, Inc., et al., Docket No. 9351.

Closed Meeting

(2) Executive Session to follow Oral Argument in McWane. Inc., et al., Docket No. 9351.

Record of Commission's Vote:

On June 19, 2013, Commissioners Ramirez, Brill Ohlhausen, and Wright were recorded as voting in the affirmative to close Matter Number (2), and to withhold from this meeting notice such information as is exempt from disclosure un 5 U.S.C. 552b(c)(10), and that the public interest does not require the matter to be open.

General Counsel Certification:

The General counsel has certified that Matter Number (2) may properly be closed, citing the following relevant provision: 5 U.S.C. Section 552b(2)(10).

Expected Attendees

Expected to attend the closed meeting are the Commissioners themselves, an advisor to one of the Commissioners, and such other Commission staff as may be appropriate.

By direction of the Commission.
Donald S. Clark,
Secretary.

[FR Doc. 2013-15561 Filed 7-2-13; 8:45 am]

BILLING CODE 6750-01-M